ENVIRONMENTAL PROTECTION AGENCY

[FRL-6587-3]

Agency Information Collection Activities: Proposed Collection; Comment Request; Conflict of Interest

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Conflict of Interest, EPA ICR No. 1550.05 and OMB Control No. 2030-0023, expires 5/31/00. Before submitting the ICR to OMB for review and approval, EPA is soliciting comments on specific aspects of the proposed information collection as described below.

DATES: Comments must be submitted on or before June 30, 2000.

ADDRESSES: 1200 Pennsylvania Ave. NW, Ariel Rios Building, Attn 3802R, Washington, DC 20460.

FOR FURTHER INFORMATION CONTACT: Leigh Pomponio, (202) 564-4364, e-mail: pomponio.leigh@epamail.epa.gov. A hard copy of the ICR may be obtained by contacting the named individual.

SUPPLEMENTARY INFORMATION: Affected entities: Entities potentially affected by this action are those which are awarded contracts supporting the Superfund program.

Title: Conflict of Interest OMB Control No. 2030-0023; EPA ICR No. 1550.05 expiring 5/31/00.

Abstract: Contractors performing at Superfund sites will be required to disclose business relationships and corporate affiliations to determine whether EPA's interests are jeopardized by such relationships. Because EPA has the dual responsibility of cleanup and enforcement and because its contractors are often involved in both activities, it is imperative that contractors are free from conflicts of interest so as not to prejudice response and enforcement actions. Contractors will be required to maintain a database of business relationships and report information to EPA on either an annual basis or when each work assignment is issued. Responses to the collection are required prior to award of a contract. Submissions will be protected from public release as Confidential Business Information in accordance with 40 CFR 2.201. An agency may not conduct or sponsor, and a person is not required to respond to, a collection of information unless it displays a currently valid OMB control number. The OMB control numbers for EPA's regulations are listed in 40 CFR part 9 and 48 CFR Chapter 15.

The EPA would like to solicit comments to:

(i) evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of infor-mation technology, e.g., permitting electronic submission of responses.

Burden Statement: Public burden is estimated to average 1969 hours per respondents. Total number of respondents covered by this collection is 165. Therefore, total burden hours are estimated at 324,885. No capital or start up costs are expected. Burden means the total time, effort, or financial resources expended by persons to generate, maintain, retain, or disclose or provide information to or for a Federal agency. This includes the time needed to review instructions; develop, acquire, in-stall, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: April 24, 2000.
Thomas D. McEntegart,
Manager, Policy Service Center.

[FR Doc. 00-10768 Filed 4-28-00; 8:45 am]

BILLING CODE 6560-50-P